DEPARTMENT OF COMMERCE

National Oceanic and Atmospheric Administration

50 CFR Part 679

[Docket No. 161020985-7181-02]

RIN 0648-XF908

Fisheries of the Exclusive Economic Zone Off Alaska; Reallocation of Pacific Cod in the Bering Sea and Aleutian Islands Management Area

AGENCY: National Marine Fisheries Service (NMFS), National Oceanic and Atmospheric Administration (NOAA), Commerce.

ACTION: Temporary rule; reallocation.

SUMMARY: NMFS is reallocating the projected unused amount of Pacific cod from catcher vessels equal to or greater than 60 feet (18.3 meters) length overall (LOA) using pot gear to catcher/processors (C/Ps) using pot gear, catcher vessels less than 60 feet (18.3 meters) LOA using hook-and-line or pot gear, and C/Ps using hook-and-line gear in the Bering Sea and Aleutian Islands management area. This action is necessary to allow the 2017 total allowable catch of Pacific cod to be harvested.

DATES: Effective December 21, 2017, through 2400 hours, Alaska local time (A.l.t.), December 31, 2017.

FOR FURTHER INFORMATION CONTACT: Josh Keaton, 907-586-7228.

SUPPLEMENTARY INFORMATION: NMFS manages the groundfish fishery in the Bering Sea and Aleutian Islands (BSAI) according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2017 Pacific cod total allowable catch (TAC) specified for catcher vessels greater than or equal to 60 feet LOA using pot gear in the BSAI is 15,389 metric tons (mt) as established by the final 2017 and 2018 harvest specifications for groundfish in the BSAI (82 FR 11826, February 27, 2017) and reallocation (82 FR 47162, October 11, 2017).

The Administrator, Alaska Region, NMFS, (Regional Administrator) has determined that catcher vessels greater than or equal to 60 feet LOA using pot gear will not be able to harvest 1,500 mt of the remaining 2017 Pacific cod TAC allocated to those vessels under § 679.20(a)(7)(ii)(A)(5). Therefore, in accordance with § 679.20(a)(7)(iii), taking into account the capabilities of the sectors to harvest reallocated amounts of Pacific cod, and following the hierarchies set forth in § 679.20(a)(7)(iii)(A) and § 679.20(a)(7)(iii)(B), NMFS reallocates 155 mt of Pacific cod to C/Ps using pot gear, 200 mt to catcher vessels less than 60 feet (18.3 m) LOA using hook-and-line or pot gear, and 1,145 mt to C/Ps using hook-and-line gear.

The harvest specifications for Pacific cod included in the final 2017 harvest specifications for groundfish in the BSAI (82 FR 11826, February 27, 2017) and reallocations (FR 57162, December 4, 2017; 82 FR 43503, September 18, 2017; 82 FR 41899, September 5, 2017; and 82 FR 8905, February 1, 2017; 82) are revised as follows: 13,889 mt for catcher vessels greater than or equal to 60 feet (18.3 m) LOA using pot gear, 4,999 mt for C/Ps using pot gear, 9,271 mt for catcher vessels less than 60 feet (18.3 m) LOA using hook-and-line or pot gear, and 107,589 mt for C/Ps using hook-and-line gear.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of Pacific cod specified from catcher vessels greater than or equal to 60 feet (18.3 m) LOA using pot gear to C/Ps using pot gear, catcher vessels less than 60 feet (18.3 m) LOA using hook-and-line or pot gear, and catcher/processors using hook-and-line gear in the BSAI management area. Since these fisheries are currently open, it is important to immediately inform the industry as to the revised allocations. Immediate notification is necessary to allow for the orderly conduct and efficient operation of this fishery, to allow the industry to plan for the fishing season, and to avoid potential disruption to the fishing fleet as well as processors. NMFS was unable to publish a notice providing time for public comment because the most recent, relevant data only became available as of December 6, 2017.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: December 21, 2017.
Alan D. Risenhoover,
Director, Office of Sustainable Fisheries, National Marine Fisheries Service.

[FR Doc. 2017-27873 Filed 12-21-17; 4:15 pm]

BILLING CODE 3510-22-P